DEPARTMENT OF DEFENSE

Office of the Secretary

Notice of Intent To Prepare an Environmental Impact Statement for an Enhanced Integrated Air and Missile Defense System on Guam

AGENCY: Missile Defense Agency (MDA), Department of Defense (DoD).

ACTION: Notice of intent.

SUMMARY: The MDA is issuing this notice of intent to prepare an Environmental Impact Statement (EIS) to assess the potential environmental impacts associated with an Enhanced Integrated Air and Missile Defense (EIAMD) system for the defense of Guam. The EIS will be prepared in accordance with the National Environmental Policy Act (NEPA) of 1969; the Council on Environmental Quality Regulations for Implementing the Procedural Provisions of NEPA; MDA's NEPA Implementing Procedures; U.S. Department of the Army's (Army) NEPA Implementing Procedures; U.S. Department of the Navy's (DoN) Environmental Readiness Program; U.S. Department of the Air Force's (DAF) Environmental Impact Analysis Process; and Federal Aviation Administration's (FAA) NEPA Policies and Procedures. The EIS will evaluate the potential environmental impacts from the proposed deployment and operation of missile defense radars and sensors, missile interceptor launchers, and command and control systems; construction and operation of associated support facilities and infrastructure; and management of associated airspace (hereafter called “Proposed Action”). The MDA is initiating a public scoping period to receive comments on the scope of the EIS including identification of potential alternatives, information, and analyses relevant to the Proposed Action, and the Proposed Action's potential to affect historic properties pursuant to section 106 of the National Historic Preservation Act (NHPA) of 1966.

DATES: The MDA invites comments during the public scoping period beginning with publication of this notice in the Federal Register. Comments must be postmarked or received on or before June 27, 2023 to ensure consideration in the Draft EIS.

ADDRESSES: Written comments should be sent via email to info@EIAMD-EIS.com; via the website comment submission form on www.EIAMD-EIS.com; or by United States (U.S.) Postal Service to: ManTech International Corporation, Attention: EIAMD EIS Project Support, PMB 403, 1270 N Marine Corps Drive, Suite 101, Tamuning, Guam 96913-4331. Comments will also be accepted at the public scoping meetings. All comments, including names and addresses, will be included in the administrative record, but personal information will be kept confidential unless release is required by law.

FOR FURTHER INFORMATION CONTACT: Mr. Mark Wright, MDA Public Affairs, at 571-231-8212 or by email to mda.info@mda.mil. Additional information on the Proposed Action can be found at the MDA website: https://www.mda.mil/system/eiamd.html.

SUPPLEMENTARY INFORMATION: Within the context of homeland defense, Guam is a key strategic location for sustaining and maintaining U.S. influence, deterring adversaries, responding to crises, and maintaining a free and open Indo-Pacific. An attack on Guam would be considered a direct attack on the United States and would be met with an appropriate response. Current U.S. forces are capable of defending Guam against regional ballistic missile threats. However, regional missile threats to Guam continue to increase and advance technologically. The U.S. Indo-Pacific Command has identified a requirement for a 360-degree EIAMD capability on Guam as soon as possible to address the rapid evolution of adversary missile threats. The purpose of the EIAMD is to support the defense of Guam from cruise, ballistic and hypersonic missile threats. The EIAMD is necessary to meet requirements as directed in the fiscal year (FY) 2022 and FY 2023 National Defense Authorization Acts and to protect Guam as described in this notice.

The MDA, in coordination with Army, DoN, DAF, and FAA as cooperating agencies, is preparing an EIS to evaluate the potential environmental impacts associated with the Proposed Action and a No Action alternative.

The Proposed Action includes the deployment and operation of a combination of components from the MDA, Army, and DoN that would be integrated for air and missile defense. These proposed components include missile defense radars and sensors, missile interceptor launchers, and command and control systems. The MDA and Army need to strategically locate and integrate the system components at multiple sites around Guam. In the event where DoD property is not available to strategically locate the components on DoD properties or where buffer and safety zone arcs encroach on non-Federal properties, acquisition of appropriate real estate interests on non-Federal property may be needed in a few areas. Site selection is evolving and additional sites may be considered. Additionally, MDA anticipates airspace modification may be necessary at sites where radars would be located. Airspace issues would be coordinated with the FAA.

Associated support facilities and infrastructure (e.g., power plants, fuel storage facilities, and water storage facilities), and life support facilities (e.g., family housing, fire stations, and dining facilities) would also be constructed and operated on these sites to support proposed EIAMD components and accommodate personnel associated with the proposed EIAMD system.

The MDA and Army have conducted extensive siting studies to confirm alternative site selection, optimize system performance, and optimize facility planning and design. The proposed EIAMD components, support facilities and infrastructure, and life support facilities would be distributed across the candidate sites.

The environmental issues and resource areas the MDA would assess in the EIS include, but are not limited to, the following: airspace, air quality, biological resources, cultural resources, environmental justice and protection of children, geological resources, public health and safety, infrastructure and utilities, land use, noise and vibration, socioeconomics, transportation, recreation, visual resources, and water resources. The analysis will include an evaluation of direct and indirect impacts, and will account for cumulative impacts from other relevant activities in the area of Guam.

This public scoping effort also supports compliance with section 106 of the NHPA and its implementing regulations at 36 CFR part 800. As such, the MDA will consult with government officials and other interested parties regarding historic and cultural resources under section 106 of the NHPA, as appropriate. Additionally, the MDA will undertake any other consultations and permitting required by applicable laws or regulations.

The MDA will conduct three in-person open house scoping meetings on Guam in June 2023. Notification of the meeting locations, dates, and times will be published and announced in local news media to encourage public participation. Access to meeting information can also be found on the MDA website at https://www.mda.mil/system/eiamd.html.

The MDA encourages elected officials, government agencies, non-governmental organizations, and interested individuals to participate in the public scoping process for the preparation of this EIS. The public scoping process assists in determining the scope of the EIS including identification of potential alternatives, information, and analyses relevant to the Proposed Action, and the Proposed Action's potential to affect historic properties.

Additional opportunities for public comment will occur after the release of the Draft EIS. The MDA intends to publish the Draft EIS in spring 2024, publish the Final EIS in early 2025, and sign a Record of Decision following the 30-day Final EIS review period.

Dated: May 2, 2023.
Aaron T. Siegel,
Alternate OSD Federal Register Liaison Officer, Department of Defense.

[FR Doc. 2023-09609 Filed 5-4-23; 8:45 am]

BILLING CODE 5001-06-P